ENVIRONMENTAL PROTECTION AGENCY

[EPA-HQ-OPPT-2023-0061; FRL-10581-13-OCSPP]

Certain New Chemicals; Receipt and Status Information for January 2023; Extension of Comment Period

AGENCY: Environmental Protection Agency (EPA).

ACTION: Notice, extension of comment period.

SUMMARY: In the Federal Register of February 17, 2023, announced the receipt and status information for certain new chemical actions that are currently under EPA review or have recently concluded review as required by the Toxic Substances Control Act (TSCA). That document also provided an opportunity for public comment and this document extends the comment period for 60 days from March 20, 2023, to May 19, 2023.

DATES: The comment period for the notice that published on February 17, 2023, at 88 FR 10320, is extended. Comments must be received on or before May 19, 2023.

ADDRESSES: Submit your comments, identified by docket identification (ID) number EPA-HQ-OPPT-2023-0061, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For technical information contact: Jim Rahai, Project Management and Operations Division (7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the Federal Register of February 17, 2023 (88 FR 10320) (FRL-10581-02-OCSPP) for 60 days, from March 20, 2023, to May 19, 2023. In that document, the Agency provided notice of receipt of new chemical actions and a periodic status report of actions that are currently under EPA review or have recently concluded review. Information about cases reviewed under the amended TSCA is also available on the EPA website at: https://www.epa.gov/reviewing-new-chemicals-under-toxic-substances-control-act-tsca/status-pre-manufacture-notices. The information is updated on a weekly basis. The Federal Register of February 17, 2023, identifies the new chemical actions and solicitation of comment to which this extension applies.

EPA received requests to extend the comment period and believes it is appropriate to do so in order to give stakeholders additional time to review the notices and prepare comments. If you have questions, consult the technical person listed under FOR FURTHER INFORMATION CONTACT.

Authority: 15 U.S.C. 2601 et seq.

Dated: March 16, 2023.
Pamela Myrick,
Director, Project Management and Operations Division, Office of Pollution Prevention and Toxics.

[FR Doc. 2023-05760 Filed 3-17-23; 8:45 am]

BILLING CODE 6560-50-P